DEPARTMENT OF TRANSPORTATION

Federal Aviation Administration

Notice of Permanent Closure; Indianapolis Downtown Heliport, Indianapolis, Indiana

AGENCY: Federal Aviation Administration (FAA), DOT.

ACTION: Notice.

SUMMARY: The Federal Aviation Administration (FAA) received written notice from the Indianapolis Airport Authority on August 12, 2025 that it will permanently close the Indianapolis Downtown Heliport (8A4), Indianapolis, IN on December 15, 2025. The notice was in excess of 30 days before the closure in accordance with federal law.

DATES: The permanent closure of the heliport is effective as of December 15, 2025.

FOR FURTHER INFORMATION CONTACT: Debra L. Bartell, Acting Deputy Director, Airports Division, Great Lakes Region, (847) 294-7272.

SUPPLEMENTARY INFORMATION: 8A4 is a 5.36 acre, non-towered, heliport that is listed in the National Plan of Integrated Airport Systems (NPIAS). The Indianapolis Airport Authority (IAA) has been the recipient of grant funding from the FAA at 8A4 in the past. On November 25, 2024, the FAA issued a letter of intent to release IAA of its Federal obligations at 8A4 and authorize closure of the Heliport. Section 46319 of Title 49 of the United States Code [49 U.S.C. 46319] provides that a public agency (as defined in 49 U.S.C. 47102) may not permanently close an airport listed in the NPIAS under 49 U.S.C. 47103 without providing written notice to the Administrator of the FAA at least 30 days before the date of closure. The FAA recognized the letter received August 12, 2025, from IAA meets that requirement and is publishing IAA's notice of permanent closure of the Indianapolis Downtown Heliport in accordance with 49 U.S.C. 46319(b). The FAA will release IAA of its Federal obligations at 8A4 once all required actions as outlined in the November 25, 2024 letter have been completed.

Issued in Des Plaines, IL, on November 5, 2025.
James Gregory Keefer,
Acting Director, Airports Division, Great Lakes Region.

[FR Doc. 2025-19883 Filed 11-13-25; 8:45 am]

BILLING CODE 4910-13-P